DEPARTMENT OF HEALTH AND HUMAN SERVICES

Administration for Children and Families

Office of Child Support Enforcement; Privacy Act of 1974; System of Records

AGENCY: Office of Child Support Enforcement, ACF, HHS.

ACTION: Notice of establishment of a new system of records.

SUMMARY: In accordance with the requirements of the Privacy Act of 1974 (5 U.S.C. 552a), as amended, the Office of Child Support Enforcement (OCSE) is publishing notice of a new system of records, entitled “Federal Parent Locator Service (FPLS) Child Support Services Portal,” System No. 09-80-0387.

DATES: The Department of Health and Human Services (HHS) invites interested parties to submit written comments on the proposed system until August 20, 2010. As required by the Privacy Act (5 U.S.C. 552a(r)), HHS on June 8, 2010 sent a report of a new system of records to the Committee on Homeland Security and Governmental Affairs of the Senate, the Committee on Oversight and Government Reform of the House of Representatives, and the Office of Information and Regulatory Affairs of the Office of Management and Budget (OMB). The proposed action described in this notice is effective on August 20, 2010, unless HHS receives comments, which result in a contrary determination.

ADDRESSES: Interested parties may submit written comment on this notice by writing to Linda Deimeke, Director, Division of Federal Systems, Office of Automation and Program Operations, Office of Child Support Enforcement, Administration for Children and Families, 370 L'Enfant Promenade, SW., 4th Floor East, Washington, DC 20447. Comments received will be available for public inspection at this address from 9 a.m. to 5 p.m., Monday through Friday.

FOR FURTHER INFORMATION CONTACT: Linda Deimeke, Director, Division of Federal Systems, Office of Child Support Enforcement, 370 L'Enfant Promenade, SW., 4th Floor East, Washington, DC 20447. The telephone number is (202) 401-5439.

SUPPLEMENTARY INFORMATION: The Federal Parent Locator Service (FPLS) Child Support Services Portal is a gateway that allows authorized users to retrieve and provide information to FPLS systems as permitted by their portal role classification. Roles are assigned based on the function the user is authorized to perform. For example, an employee of a multistate financial institution could be assigned the role that allows her to provide bank account information that would be used to identify financial holdings of a noncustodial parent. Another authorized user might have access to the role that allows registration as an employer that accepts electronic income withholding orders.

The establishment of the proposed new system of records will ensure that access to the portal and its services is secure and restricted to those individuals and organizations, including third parties conducting business on behalf of another business or organization, that apply for, and are granted, access privileges. In turn, access to the portal by authorized individuals will enhance the ability of OCSE, employers, financial institutions and other partners to assist state child support agencies in collecting support on behalf of children and families.

Dated: July 8, 2010.
Vicki Turetsky,
Commissioner, Office of Child Support Enforcement.

90-80-0387

SYSTEM NAME:

Federal Parent Locator Service Child Support Services Portal.

SECURITY CLASSIFICATION:

None.

SYSTEM LOCATION:

Lockheed Martin, Building 101, 9500 Godwin Drive, Room F12, Manassas, Virginia 20110-4157.

CATEGORIES OF INDIVIDUALS COVERED BY THE SYSTEM:

OCSE employees and contractors, and employees of states, financial institutions, insurance companies, federal agencies and other employers who have registered to access the system and its services for the purpose(s) of exchanging information to support electronic income withholding orders (also referred to as e-IWO), to identify financial holdings, to locate parents or other responsible parties, to intercept tax refunds and administrative payments or to deny or reinstate a U.S. passport for a noncustodial parent owing past-due child support.

CATEGORIES OF RECORDS IN THE SYSTEM:

Information relating to registration requests by individuals seeking access to the portal and its services, including the individual's name, Social Security number (SSN), date of birth, and the address and Federal Employer Identification Number of the individual's employer.

AUTHORITY FOR MAINTENANCE OF THE SYSTEM:

42 U.S.C. 652(a)(9) and 653(a)(1).

PURPOSE:

To validate eligibility for, and maintain an official registry file that identifies individuals and organizations, including third parties conducting business on behalf of another business or organization that apply for and are granted access privileges to the FPLS Child Support Services Portal and its services.

ROUTINE USES OF RECORDS MAINTAINED IN THE SYSTEM, INCLUDING CATEGORIES OF USERS AND THE PURPOSE OF SUCH USES:

1. Records may be disclosed to the Department of Justice when (1) HHS, or any component thereof; or (2) any employee of HHS in his or her official capacity; or (3) any employee of HHS in his or her individual capacity where the Department of Justice or HHS has agreed to represent the employee; or (4) the United States, is a party to litigation or has an interest in such litigation, and the use of such records by the Department of Justice is deemed by HHS to be relevant and necessary to the litigation; provided, however, that in each case it has been determined that the disclosure is compatible with the purpose for which the records were collected.

2. Records may be disclosed to a court or adjudicative body when (1) HHS, or any component thereof; or (2) any employee of HHS in his or her official capacity; or (3) any employee of HHS in his or her individual capacity where the Department of Justice or HHS has agreed to represent the employee; or (4) the United States, is a party to litigation or has an interest in the proceeding, and the disclosure of such records is deemed by HHS to be relevant and necessary to the proceeding; provided, however, that in each case it has been determined that the disclosure is compatible with the purpose for which the records were collected.

3. Records may be disclosed to the appropriate federal, state, local, tribal or foreign agency responsible for investigating, prosecuting, enforcing or implementing a statute, rule, regulation or order, if the information is relevant to a violation or potential violation of civil or criminal law or regulation within the jurisdiction of the receiving entity.

4. Records may be disclosed to a contractor performing or working on a contract for HHS and who has a need to have access to the information in the performance of its duties or activities for the HHS in accordance with law and with the contract.

5. Records may be disclosed to appropriate federal agencies and Department contractors that have a need to know the information for the purpose of assisting the Department's efforts to respond to a suspected or confirmed breach of the security or confidentiality of information maintained in this system of records and the information disclosed is relevant and necessary for that assistance.

DISCLOSURES TO CONSUMER REPORTING AGENCIES:

None.

POLICIES AND PRACTICES FOR STORING, RETRIEVING, ACCESSING, RETAINING AND DISPOSING OF RECORDS IN THE SYSTEM:

STORAGE:

Records in the system are stored electronically.

RETRIEVABILITY:

Records are retrieved by the social security number of the individual to whom the record pertains.

SAFEGUARDS:

Specific administrative, technical, and physical controls are in place to ensure that the records collected and maintained in the FPLS Child Support Services Portal are secure from unauthorized access.

Access to the records is restricted to authorized personnel who are advised of the confidentiality of the records and the civil and criminal penalties for misuse and who sign a nondisclosure oath to that effect. Personnel are provided privacy and security training before being granted access to the records and annually thereafter.

Logistical access controls are in place to limit access to the records to authorized personnel and to prevent browsing. The records are processed and stored in a secure environment. The individual's SSN is encrypted, and access to, and viewing of, the SSN is restricted to designated employees and contractors of OCSE solely for the purpose of verifying the identity of a registrant or a user of the portal.

All records are stored in an area that is physically safe from access by unauthorized persons at all times.

Safeguards conform to the HHS Information Security Program, http://www.hhs.gov/ocio/securityprivacy/index.html.

RETENTION AND DISPOSAL:

Electronic records are to be deleted when/if OCSE determines that the records are no longer needed for administrative, audit, legal, or operational purposes, and in accordance with records schedules approved by the National Archives and Records Administration. Approved disposal methods for electronic records and media include overwriting, degaussing, erasing, disintegration, pulverization, burning, melting, incineration, shredding or sanding.

SYSTEM MANAGER(S) AND ADDRESS:

Director, Division of Federal Systems, Office of Automation and Program Operations, Office of Child Support Enforcement, Administration for Children and Families, 370 L'Enfant Promenade, SW., 4th Floor East, Washington, DC 20447.

NOTIFICATION PROCEDURES:

Individuals seeking to determine whether this system of records contains information about themselves should address written inquiries to the System Manager. The request should include the name, telephone number and/or email address, Social Security number (SSN), and address of the individual. The request must be signed. The requester's letter must provide sufficient particulars to enable the System Manager to distinguish between records of subject individuals with the same name. Verification of identity as described in the Department's Privacy Act regulations may be required. 45 CFR 5b.5.

RECORD ACCESS PROCEDURES:

Individuals seeking access to a record about themselves in this system of records should address written inquiries to the System Manager. The request should include the name, telephone number and/or email address, Social Security number (SSN), and address of the individual, and should be signed. The requester's letter must provide sufficient particulars to enable the System Manager to distinguish between records on subject individuals with the same name. Verification of identity as described in the Department's Privacy Act regulations may be required. 45 CFR 5b.5.

CONTESTING RECORD PROCEDURES:

Individuals seeking to amend a record about themselves in this system of records should address the request for amendment to the System Manager. The request should (1) include the name, telephone number and/or email address, Social Security number (SSN), and address of the individual, and should be signed; (2) identify the system of records that the individual believes includes his or her records or otherwise provide enough information to enable the identification of the individual's record; (3) identify the information that the individual believes is not accurate, relevant, timely or complete; (4) indicate what corrective action is sought; and (5) include supporting justification or documentation for the requested amendment. Verification of identity as described in the Department's Privacy Act regulations may be required. 45 CFR 5b.5.

RECORD SOURCE CATEGORIES:

Information is obtained from individuals and organizations, including third parties conducting business on behalf of a business or organization, that apply for access privileges to the FPLS Child Support Services Portal and its services.

EXEMPTIONS CLAIMED FOR THE SYSTEM:

None.

[FR Doc. 2010-17738 Filed 7-20-10; 8:45 am]

BILLING CODE 4184-42-P